DEPARTMENT OF AGRICULTURE

Grain Inspection, Packers and Stockyards Administration

[06-GL-A]

Voluntary Cancellation of Global's Designation

AGENCY: Grain Inspection, Packers and Stockyards Administration, USDA.

ACTION: Notice.

SUMMARY: The United States Grain Standards Act, as amended (Act), provides that official agency designations will end not later than triennially and may be renewed. Global Grain Inspection Services, Inc. (Global) (as a subsidiary of BSI Inspectorate America Corporation), is designated to provide domestic official inspection services until November 30, 2006, according to the Act. Global advised the Grain Inspection, Packers and Stockyards Administration (GIPSA) that they will cease providing official services on April 9, 2006. Accordingly, GIPSA is announcing that Global's designation will be canceled effective April 9, 2006. GIPSA is asking for applicants to provide domestic official inspection services in all or part of the specified geographic area in Texas.

DATES: Applications and comments must be received on or before March 3, 2006.

ADDRESSES: We invite you to submit applications and comments on this notice. You may submit applications and comments by any of the following methods:

• Hand Delivery or Courier: Deliver to Janet M. Hart, Deputy Director, Compliance Division, GIPSA, USDA, Room 1647-S, 1400 Independence Avenue, SW., Washington, DC 20250.

• Fax: Send by facsimile transmission to (202) 690-2755, attention: Janet M. Hart.

• E-mail: Send via electronic mail to Janet.M.Hart@usda.gov.

• Mail: Send hardcopy to Janet M. Hart, Deputy Director, Compliance Division, GIPSA, USDA, STOP 3604, 1400 Independence Avenue, SW., Washington, DC 20250-3604.

Read Applications and Comments: All applications and comments will be available for public inspection at the office above during regular business hours (7 CFR 1.27(b)).

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

Section 7(f)(1) of the Act authorizes GIPSA's Administrator to designate a qualified applicant to provide official services in a specified area after determining that the applicant is better able than any other applicant to provide such official services. GIPSA designated Global, headquarters in Fort Worth, Texas, to provide official inspection services under the Act effective May 1, 2005, and terminating November 30, 2006.

Section 7(g)(1) of the Act provides that designations of official agencies will end not later than triennially and may be renewed according to the criteria and procedures prescribed in Section 7(f) of the Act. Global's designation ends November 30, 2006, according to the Act. However, Global asked GIPSA for a voluntary cancellation of their designation effective April 9, 2006. Accordingly, Global's designation will cease effective April 9, 2006, and GIPSA is asking for applicants to provide domestic official inspection services.

Pursuant to Section (7)(2) of the Act, the following geographic area, in the State of Texas, is assigned to Global.

Bounded on the north by the northern Jack, Wise, Denton, Collin, Hunt, Delta, Franklin, Titus, Morris, and Marion County line east to the Texas State line; Bounded on the east by the eastern Texas State line south to the southern Texas State line; Bounded on the south by the southern Texas State line west to the western Val Verde County line; Bounded on the west by the western Val Verde, Edwards, Kimble, Mason, San Saba, Mills, Comanche, Erath, Palo Pinto, and Jack County lines north to the northern Jack County line.

Global's assigned geographic area does not include the export port locations inside Global's area which are serviced by GIPSA. Interested persons are hereby given the opportunity to apply for designation to provide official services in the geographic areas specified above under provisions of Section 7(f) of the Act and section 800.196(d) of the regulations issued thereunder. Persons wishing to apply for designation should contact the Compliance Division at the address listed above for forms and information, or obtain applications at the GIPSA Web site, http://www.usda.gov/gipsa/oversight/parovreg.htm.

Authority: Pub.L. 94-582, 90Stat. 2867, as amended (7 U.S.C. 71 et seq.).

David R. Shipman,
Acting Administrator, Grain Inspection, Packers and Stockyards Administration.

[FR Doc. E6-1337 Filed 1-31-06; 8:45 am]

BILLING CODE 3410-EN-P